DEPARTMENT OF ENERGY

Federal Energy Regulatory Commission

[Project No. 12713-002]

Reedsport OPT Wave Park, LLC; Notice of Settlement Agreement and Soliciting Comments

August 10, 2010.

Take notice that the following Settlement Agreement has been filed with the Commission and is available for public inspection.

a. Type of Application: Settlement Agreement.

b. Project No.: P-12713-002.

c. Date Filed: August 2, 2010.

d. Applicant: Reedsport OPT Wave Park, LLC.

e. Location: The proposed project would be located in Oregon state waters of the Pacific Ocean about 2.5 miles off the coast near Reedsport, in Douglas County, Oregon. The proposed transmission line would occupy about 5 acres of the Oregon Dunes National Recreation Area, Siuslaw National Forest.

g. Filed Pursuant to: Rule 602 of the Commission's Rules of Practice and Procedure, 18 CFR 385.602, Federal Power Act 16 U.S.C. 791 (a)-825(r).

h. Applicant Contact: Dr. George Taylor, Reedsport OPT Wave Park, LLC (OPT), 1590 Reed Road, Pennington, New Jersey 08534-2760; (609) 730-0400.

i. FERC Contact: Jim Hastreiter (503) 552-2760 or via e-mail at james.hastreiter@ferc.gov.

j. Deadline for filing comments on the Settlement: August 30, 2010. Reply comments due September 15, 2010.

All documents may be filed electronically via the Internet. See 18 CFR 385.2001(a)(1)(iii) and the instructions on the Commission's Web site http://www.ferc.gov/docs-filing/ferconline.asp. Commenter's can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. OPT filed a settlement agreement on behalf of itself; National Marine Fisheries Service; U.S. Fish and Wildlife Service; U.S. Forest Service; Oregon Department of State Lands; Oregon Department of Environmental Quality; Oregon Department of Land Conservation and Development; Oregon Water Resources Department; Oregon Department of Fish and Wildlife; Oregon Parks and Recreation Department; Oregon Department of Energy; Oregon State Marine Board; Oregon Shores Conservation Coalition; Surfrider Foundation; and Southern Oregon Ocean Resource Coalition.

The settlement agreement resolves among the signatories all issues associated with issuance of an original license for the project regarding construction and operation, including fish and wildlife, aquatic resources and water quality, recreation and public safety, crabbing and fishing, terrestrial resources, and cultural resources. The signatories request that the Commission: (1) Accept the Agreement as an Offer of Settlement; (2) issue an original license for a term of 35 years; and (3) incorporate in their entirety and without modification as enforceable conditions of the license, OPT's obligations under the following terms, which include specific protection, mitigation, and enhancement measures and study and adaptive management requirements: (a) Section 3.3 and Exhibit B-Adaptive Management; (b) Section 3.6-Fish or Wildlife Emergency Circumstance; (c) Section 4.2-Committees; (d) Section 4.3-Inspection, Notice and Site Visit; (e) Appendix A-Aquatic Resources and Water Quality Plan; (f) Appendix B-Recreation and Public Safety Plan; (g) Appendix C-Crabbing and Fishing Plan; (h) Appendix D-Terrestrial and Cultural Resources Plan; and (i) OPT's license application including the project description, Operations and Maintenance Plan, Spill Prevention Control and Countermeasure Plan, and Emergency Response/Recovery Plan.

l. A copy of the settlement agreement is available for review at the Commission in the Public Reference Room or may be viewed on the Commission's Web site at http://www.ferc.gov, using the “e-Library” link. Enter the docket number, excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

Nathaniel J. Davis, Sr.,
Deputy Secretary.

[FR Doc. 2010-20504 Filed 8-18-10; 8:45 am]

BILLING CODE 6717-01-P